DEPARTMENT OF ENERGY

Federal Energy Regulatory Commission

[Docket No. CP06-22-000]

Texas Gas Transmission, LLC; Notice of Request Under Blanket Authorization

November 22, 2005.

Take notice that on November 9, 2005, Texas Gas Transmission, LLC (Texas Gas), 3800 Frederica Street, Owensboro, Kentucky 42301, filed in Docket No. CP06-22-000, an application pursuant to Sections 157.205, 157.208, and 157.216 of the Commission's Regulations under the Natural Gas Act (NGA) as amended, for authorization to construct the West Greenville—Elkton Lateral in Muhlenberg and Todd Counties, Kentucky, to decrease the risk of service interruption during periods of peak customer demand, under Texas Gas' blanket certificate issued in Docket No. CP82-407-000, all as more fully set forth in the application which is on file with the Commission and open to public inspection.

Texas Gas states that it proposes to construct and operate the West Greenville—Elkton Lateral, which would consist of approximately 27.5 miles of natural gas pipeline (12.8 miles of 12-inch diameter and 14.7 miles of 10-inch diameter pipe) and appurtenant facilities, to provide an additional means of transporting natural gas to the Bowling Green, Kentucky, market area. Texas Gas also states that the proposed lateral would decrease the risk of service interruptions during customer demand periods. Texas Gas estimates that it would spend $14,165,000 to construct the proposed lateral.

Any questions concerning this application may be directed to counsel for Texas Gas, Kathy D. Fort, Manager of Certificates and Tariffs, Texas Gas Transmission, LLC, P.O. Box 20008, Owensboro, Kentucky 42304; telephone 270-688-6825 or facsimile 270-688-5871.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

Magalie R. Salas,
Secretary.

[FR Doc. E5-6684 Filed 11-29-05; 8:45 am]

BILLING CODE 6717-01-P